DEPARTMENT OF TRANSPORTATION

Pipeline and Hazardous Materials Safety Administration

[Docket No. PHMSA-2024-0056 (Notice No. 2024-12)]

Hazardous Materials: Information Collection Activities

AGENCY: Pipeline and Hazardous Materials Safety Administration (PHMSA), DOT.

ACTION: Notice and request for comments.

SUMMARY: In accordance with the Paperwork Reduction Act of 1995, this notice announces that the Information Collection Requests (ICRs) discussed below will be forwarded to the Office of Management and Budget (OMB) for renewal and extension. These ICRs describe the nature of the information collections and their expected burdens. A Federal Register notice and request for comments with a 60-day comment period on these ICRs was published in the Federal Register on May 10, 2024 under Docket No. PHMSA-2024-0056 (Notice No. 2024-08). PHMSA received no comments in response to this notice.

DATES: Interested persons are invited to submit comments on or before November 20, 2024.

ADDRESSES: Written comments and recommendations for the proposed information collection should be sent within 30 days of publication of this notice to www.reginfo.gov/public/do/PRAMain. Find this particular information collection by selecting “Currently under 30-day Review—Open for Public Comments” or by using the search function.

We invite comments on: (1) whether the proposed collection of information is necessary for the proper performance of the functions of the Department, including whether the information will have practical utility; (2) the accuracy of the Department's estimate of the burden of the proposed information collection; (3) ways to enhance the quality, utility, and clarity of the information to be collected; and (4) ways to minimize the burden of the collection of information on respondents, including the use of automated collection techniques or other forms of information technology.

Docket: For access to the dockets to read background documents or comments received, go to https://www.regulations.gov or DOT's Docket Operations Office (see ADDRESSES).

FOR FURTHER INFORMATION CONTACT: Steven Andrews or Nina Vore, Standards and Rulemaking Division, (202) 366-8553, ohmspra@dot.gov, Pipeline and Hazardous Materials Safety Administration, U.S. Department of Transportation, 1200 New Jersey Avenue SE, Washington, DC 20590-0001.

SUPPLEMENTARY INFORMATION: Section 1320.8(d), title 5, Code of Federal Regulations (CFR) requires the Pipeline and Hazardous Materials Safety Administration (PHMSA) to provide interested members of the public and affected agencies an opportunity to comment on information collection and recordkeeping requests. This notice identifies information collection requests PHMSA will be submitting to OMB for renewal and extension. These information collections are contained in 49 CFR 171.6 of the Hazardous Materials Regulations (HMR; 49 CFR parts 171 through 180). The following information is provided for each information collection: (1) title of the information collection, including former title if a change is being made; (2) OMB control number; (3) summary of the information collection activity; (4) description of affected public; (5) estimate of total annual reporting and recordkeeping burden; and (6) frequency of collection. PHMSA will request a 3-year term of approval for each information collection activity and will publish a notice in the Federal Register upon OMB's approval. PHMSA requests comments on the following information collections:

Title: Flammable Cryogenic Liquids.

OMB Control Number: 2137-0542.

Summary: Provisions in § 177.840(a)(2) specify certain safety procedures and documentation requirements for drivers of motor vehicles transporting flammable cryogenic liquids. This information allows the driver to take appropriate remedial actions to prevent a catastrophic release of the flammable cryogenics should the temperature of the material begin to rise excessively or if the travel time will exceed the safe travel time. These requirements are intended to ensure a high level of safety when transporting flammable cryogenics due to their extreme flammability and high compression ratio when in a liquid state. The following information collections and their burdens are associated with this OMB Control Number.

Information collection | Respondents | Total annual responses | Time per response | Total annual burden hours
Flammable Cryogenic Liquids—Reporting | 175 | 18,200 | 3.5 minutes | 1,062
Flammable Cryogenic Liquids—Recordkeeping | 175 | 18,200 | 30 seconds | 152

Affected Public: Carriers of cryogenic materials.

Annual Reporting and Recordkeeping Burden:

Number of Respondents: 350.

Total Annual Responses: 36,400.

Total Annual Burden Hours: 1,214.

Frequency of Collection: On occasion.

Title: Response Plans for Shipments of Oil.

OMB Control Number: 2137-0591.

Summary: Under authority of the Federal Water Pollution Control Act, as amended by the Oil Pollution Act of 1990 (33 U.S.C. 1251 et seq.), PHMSA issued regulations in 49 CFR part 130 that require preparation of written spill response plans. The following information collections and their burdens are associated with this OMB Control Number.

Information collection | Respondents | Total annual responses | Time per response | Total annual burden hours
Basic Written Response Plan—New Plans | 80 | 80 | 33 hours | 2,640
Basic Written Response Plan—Updating Plans | 7,920 | 7,920 | 1 hour | 7,920

Affected Public: Carriers that transport oil in bulk, by motor vehicle or rail.

Annual Reporting and Recordkeeping Burden:

Number of Respondents: 8,000.

Total Annual Responses: 8,000.

Total Annual Burden Hours: 10,560.

Frequency of Collection: On occasion.

Title: Requirements for United Nations (UN) Cylinders.

OMB Control Number: 2137-0621.

Summary: This information collection and recordkeeping burden is the result of efforts to amend the HMR to adopt standards for the design, construction, maintenance, and use of cylinders and multiple-element gas containers (MEGCs) based on the standards contained in the UN Recommendations on the Transport of Dangerous Goods. Aligning the HMR with the UN Recommendations promotes flexibility, permits the use of technological advances for the manufacture of the pressure receptacles, provides for a broader selection of pressure receptacles, reduces the need for special permits, and facilitates international commerce in the transportation of compressed gases. Information collection requirements address domestic and international manufacturers of cylinders that request approval by the approval agency for cylinder design types. The approval process for each cylinder design type includes review, filing, and recordkeeping of the approval application. The approval agency is required to maintain a set of the approved drawings and calculations for each design it reviews and a copy of each initial design type approval certificate approved by the Associate Administrator for the Office of Hazardous Materials Safety for not less than 20 years. The following information collections and their burdens are associated with this OMB Control Number.

Information collection | Respondents | Total annual responses | Time per response | Total annual burden hours
UN Pressure Receptacle Approval—New Request | 35 | 35 | 6 hours | 210
UN Pressure Receptacle Approval—Modified Request | 100 | 100 | 6 hours | 600
UN Pressure Receptacle Approval—Recordkeeping | 75 | 75 | 6 minutes | 8

Affected Public: Fillers, owners, users, and retesters of UN cylinders.

Annual Reporting and Recordkeeping Burden:

Number of Respondents: 210.

Total Annual Responses: 210.

Total Annual Burden Hours: 818.

Frequency of Collection: On occasion.

Issued in Washington, DC, on October, 16, 2024, under authority delegated in 49 CFR 1.97.
Alexander Ronald Wolcott,
Acting Chief, Regulatory Review and Reinvention Branch, Office of Hazardous Materials Safety, Pipeline and Hazardous Materials Safety Administration.

[FR Doc. 2024-24294 Filed 10-18-24; 8:45 am]

BILLING CODE 4910-60-P